NUCLEAR REGULATORY COMMISSION

[Docket Nos. 50-498 & 50-499; NRC-2010-0375]

STP Nuclear Operating Company; South Texas Project, Units 1 and 2

AGENCY: Nuclear Regulatory Commission.

ACTION: License renewal and record of decision; issuance.

SUMMARY: The U.S. Nuclear Regulatory Commission (NRC) has issued renewed Facility Operating License Nos. NPF-76 and NPF-80 to STP Nuclear Operating Company (licensee), the operator of the South Texas Project (STP), Units 1 and 2. Renewed Facility Operating License Nos. NPF-76 and NPF-80 authorize operation of STP by the licensee at reactor core power levels not in excess of 3,853 megawatts thermal for each unit, in accordance with the provisions of the STP renewed licenses and technical specifications. In addition, the NRC has prepared a record of decision (ROD) that supports the NRC's decision to renew Facility Operating License Nos. NPF-76 and NPF-80.

DATES: The renewal of Facility Operating License Nos. NPF-76 and NPF-80 was issued on September 28, 2017.

ADDRESSES: Please refer to Docket ID NRC-2010-0375 when contacting the NRC about the availability of information regarding this document. You may obtain publicly-available information related to this document using any of the following methods:

• Federal Rulemaking Web site: Go to http://www.regulations.gov and search for Docket ID NRC-2010-0375. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Lois M. James, Office of Nuclear Reactor Regulation, U.S. Nuclear Regulatory Commission, Washington, DC 20555; telephone: 301-415-3306; email: Lois.James@nrc.gov.

SUPPLEMENTARY INFORMATION: Notice is hereby given that the NRC has issued renewed Facility Operating License Nos. NPF-76 and NPF-80 to STP Nuclear Operating Company (licensee), the operator of STP, Units 1 and 2. Renewed Facility Operating License Nos. NPF-76 and NPF-80 authorize operation of STP by the licensee at reactor core power levels not in excess of 3,853 megawatts thermal for each unit, in accordance with the provisions of the STP renewed license and technical specifications. The NRC's ROD that supports the NRC's decision to renew Facility Operating License Nos. NPF-76 and NPF-80 is available in ADAMS under Accession No. ML17138A276 and was published in the Federal Register (FR) on September 25, 2017 (82 FR 44666). As discussed in the ROD and the final supplemental environmental impact statement (FSEIS) for STP, Supplement 48 to NUREG-1437, “Generic Environmental Impact Statement for License Renewal of Nuclear Plants Regarding South Texas Project, Units 1 and 2, Final Report” dated November 2013 (ADAMS Accession No. ML13322A890), the NRC has considered a range of reasonable alternatives that included natural gas combined-cycle (NGCC); supercritical pulverized coal; combination of wind, solar, and NGCC; and the no action alternative. The FSEIS documents the environmental review, including the determination that the adverse environmental impacts of license renewal for STP are not so great that preserving the option of license renewal for energy planning decisionmakers would be unreasonable.

South Texas Project, Units 1 and 2, are pressurized water reactors located in Bay City, TX (90 miles SW of Houston, TX). The application for the renewed licenses, “License Renewal Application, South Texas Project, Unit 1 and Unit 2, Facility Operating License Nos. NPF-76 and NPF-80,” dated October 25, 2010 (ADAMS Package Accession No. ML103010256), as supplemented by letters dated through May 2, 2017, complies with the standards and requirements of the Atomic Energy Act of 1954, as amended (the Act), and the NRC's regulations. As required by the Act and the NRC's regulations in Chapter 1 of title10 of the Code of Federal Regulations (10 CFR), the NRC has made appropriate findings, which are set forth in the license. A public notice of the proposed issuance of the renewed license and an opportunity for a hearing was published in the Federal Register on January 13, 2011 (76 FR 2426). No adjudicatory matters are pending before the Commission or the Atomic Safety and Licensing Board Panel regarding the STP license renewal application.

For further details with respect to this action, see: (1) STP Nuclear Operating Company license renewal application for STP dated October 25, 2010 (ADAMS Package Accession No. ML103010256), as supplemented by letters through May 2, 2017; (2) the NRC's safety evaluation report published on June 8, 2017 (ADAMS Package Accession No. ML17142A263); (3) the NRC's final environmental impact statement (NUREG-1437, Supplement 48) for STP published on November 30, 2013 (ADAMS Accession No. ML13322A890); and (4) the NRC's ROD (ADAMS Accession No. ML17138A276).

Dated at Rockville, Maryland, this 28th day of September 2017.
For the Nuclear Regulatory Commission.
Joseph E. Donoghue,
Deputy Director, Division of License Renewal, Office of Nuclear Reactor Regulation.

[FR Doc. 2017-21253 Filed 10-3-17; 8:45 am]

BILLING CODE 7590-01-P